DEPARTMENT OF COMMERCE

National Oceanic and Atmospheric Administration

[I.D. 020100A]

Marine Mammal Stranding Report; Proposed Information Collection; Comment Request

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 4, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Nicole R. Le Boeuf, Office of Protected Resources, F/PR2, National Marine Fisheries Service, 1315 East-West Highway, Silver Spring, MD 20910.

SUPPLEMENTARY INFORMATION:

I. Abstract

Section 402(b) of the Marine Mammal Protection Act (MMPA) requires that information on marine mammal strandings be collected. The Marine Mammal Stranding Reports provide baseline information on marine mammal mortalities, human interactions with marine mammals, and marine mammal population dynamics. NMFS uses the information to fulfill management responsibilities under the MMPA. The Marine Mammal Stranding Reports are submitted by members of the marine mammal stranding network—the vast majority of whom are volunteers who have been authorized by NMFS to respond to strandings.

There are three marine mammal stranding data forms proposed for use. All the forms are intended to accurately characterize marine mammal strandings data. The new Marine Mammal Human Interaction and Marine Mammal Disposition Reports are designed to supplement the existing main form, the Marine Mammal Stranding Report.

The Marine Mammal Stranding Report was designed to provide a basic record of a marine mammal stranding event. The proposed Marine Mammal Stranding Report contains minor modifications of the form currently in use by the stranding networks. The modifications were made to increase consistency with data collected and currently used databases, to clarify meanings of data fields, and to improve the overall readability and appearance of the form.

The Marine Mammal Human Interaction Report is designed to provide stranding responders with a tool to objectively examine and collect data on marine mammal strandings specific to signs of human interaction. The Report is intended to prompt the examiner to collect data that will lead to a human interaction determination of “yes”, “no”, or “could not be determined”. The determination is recorded on the Marine Mammal Stranding Report, but the detailed information supporting this determination is provided on the Marine Mammal Human Interaction Report. The data collected on this form will help managers determine the frequency and type of human interactions that occur with marine mammals.

The Marine Mammal Disposition Report is designed to provide information regarding the treatment and disposition of a live marine mammal after initial examination and/or rehabilitation. Stranding network participants submit the Marine Mammal Stranding Report on a timely basis, but a live stranded animal may require longer care and/or may be deemed non-releasable and may be permanently retained in a captive display facility. The Marine Mammal Disposition Report allows the stranding network to provide follow-up information on the care, release, tagging, and specimen collection of live stranded marine mammals. This information will help managers track the final disposition of marine mammals that strand alive.

II. Method of Collection

Stranding Network members submit basic biological data contained on the reporting forms to NMFS Regional Offices for compilation and analysis.

III. Data

OMB Number: 0648-0178.

Form Number: NOAA Forms 89-864, 89-870, and 89-869.

Type of Review: Regular submission.

Affected Public: Individuals, not-for-profit institutions, business or other for-profit, Federal government, and state and local government

Estimated Number of Respondents: 400

Estimated Time Per Response: 20 minutes

Estimated Total Annual Burden Hours: 2,240

Estimated Total Annual Cost to Public: $2,200

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: January 28, 2000.
Linda Engelmeier,
Departmental Forms Clearance Officer, Office of Chief Information Officer.

[FR Doc. 00-2576 Filed 2-3-00; 8:45 am]

BILLING CODE 3510-22-F